DEPARTMENT OF THE INTERIOR

National Park Service

[NPS-WASO-NAGPRA-NPS0036185; PPWOCRADN0-PCU00RP14.R50000]

Notice of Inventory Completion: University of Northern Colorado, Greeley, CO

AGENCY: National Park Service, Interior.

ACTION: Notice.

SUMMARY: In accordance with the Native American Graves Protection and Repatriation Act (NAGPRA), the University of Northern Colorado (UNC), has completed an inventory of human remains and has determined that there is no cultural affiliation between the human remains and any Indian Tribe. The human remains most likely were removed either from New Mexico or Weld County, CO.

DATES: Disposition of the human remains in this notice may occur on or after August 17, 2023.

ADDRESSES: Dr. Andrew T. Creekmore, III, University of Northern Colorado, 501 20th Street, Greeley, CO 80638, telephone (970) 351-2761, email andrew.creekmore@unco.edu.

SUPPLEMENTARY INFORMATION: This notice is published as part of the National Park Service's administrative responsibilities under NAGPRA. The determinations in this notice are the sole responsibility of the UNC. The National Park Service is not responsible for the determinations in this notice. Additional information on the determinations in this notice, including the results of consultation, can be found in the inventory or related records held by the UNC.

Description

Human remains representing, at minimum, 29 individuals most likely were removed and donated by Edgar Lee Hewett from New Mexico sometime in the early 20th century, or removed and donated by R.W. Bullock from New Mexico sometime in the early 20th century or were removed and donated by George Fay, or unknown individuals, from Weld County, CO, between 1890-1980. The human remains belong to one female adult, one male adult, 24 adults of indeterminate sex, two juveniles, and one adolescent. No associated funerary objects are present.

Aboriginal Land

The human remains in this notice were likely removed from known geographic locations. These locations are the aboriginal lands of one or more Indian Tribes. The following information was used to identify the aboriginal land: a final judgment of the Indian Claims Commission.

The UNC consulted with all Indian Tribes who are aboriginal to the area from which these human remains were likely removed. None of these Indian Tribes agreed to accept control of the human remains. The UNC agreed to transfer control of the human remains to the Indian Tribes identified in the Determinations section.

Determinations

Pursuant to NAGPRA and its implementing regulations, and after consultation with the appropriate Indian Tribes, the UNC has determined that:

• The human remains described in this notice represent the physical remains of 29 individuals of Native American ancestry.

• No relationship of shared group identity can be reasonably traced between the human remains and any Indian Tribe.

• The human remains described in this notice were removed from the aboriginal land of the Cheyenne and Arapaho Tribes, Oklahoma; Jicarilla Apache Nation, New Mexico; Navajo Nation, Arizona, New Mexico, & Utah; Northern Arapaho Tribe of the Wind River Reservation, Wyoming; and the Northern Cheyenne Tribe of the Northern Cheyenne Indian Reservation, Montana.

• The disposition of the human remains described in this notice may be to the Southern Ute Indian Tribe of the Southern Ute Reservation, Colorado, and the Ute Mountain Ute Tribe.

Requests for Disposition

Written requests for disposition of the human remains in this notice must be sent to the Responsible Official identified in ADDRESSES. Requests for disposition may be submitted by:

1. Any one or more of the Indian Tribes identified in this notice.

2. Any lineal descendant, Indian Tribe, or Native Hawaiian organization not identified in this notice who shows, by a preponderance of the evidence, that the requestor is a lineal descendant or a culturally affiliated Indian Tribe or Native Hawaiian organization, or who shows that the requestor is an aboriginal land Indian Tribe.

Disposition of the human remains described in this notice to a requestor may occur on or after August 17, 2023. If competing requests for disposition are received, UNC must determine the most appropriate requestor prior to disposition. Requests for joint disposition of the human remains are considered a single request and not competing requests. UNC is responsible for sending a copy of this notice to the Indian Tribes identified in this notice.

Authority: Native American Graves Protection and Repatriation Act, 25 U.S.C. 3003, and the implementing regulations, 43 CFR 10.9 and 10.11.

Dated: July 6, 2023.
Melanie O'Brien,
Manager, National NAGPRA Program.

[FR Doc. 2023-15102 Filed 7-17-23; 8:45 am]

BILLING CODE 4312-52-P